DEPARTMENT OF DEFENSE

Office of the Secretary

Publication of Housing Price Inflation Adjustment Under Public Law 108-189, Section 301

AGENCY: DoD, Office of the Under Secretary (Personnel and Readiness).

ACTION: Notice.

SUMMARY: Section 301 of the Servicemembers Civil Relief Act prevents a landlord, except by court order, from evicting a service member or the dependents of a service member, during a period of military service of the service member, from premises that are occupied or intended to be occupied primarily as a residence. In 2003, this section of the Act applied to monthly rents of $2,400 or less. The law adjusts this maximum amount annually to reflect inflation based upon the consumer price index, and Department of Defense is required to publish the new amount in the Federal Register within 60 days of the adjustment made for that year. This notice is published to notify readers of the new amount that will be in effect during calendar year 2004. As of January 1, 2004, the maximum monthly rental amount in subsection 301(a), paragraph (1)(A)(ii), will be $2,465.

EFFECTIVE DATE: January 8, 2004.

FOR FURTHER INFORMATION CONTACT: Lt. Colonel Patrick W. Lindemann, Office of the Under Secretary of Defense (Personnel and Readiness) at (703) 697-3387.

Dated: December 31, 2003.
L.M. Bynum,
Alternate OSD Federal Register Liaison Officer, Department of Defense.

[FR Doc. 04-351 Filed 1-7-04; 8:45 am]

BILLING CODE 5001-06-M